DEPARTMENT OF HOUSING AND URBAN DEVELOPMENT

[Docket No. FR-5752-N-105]

30-Day Notice of Proposed Information Collection: Pre-Purchase Homeownership Counseling Demonstration and Impact Evaluation

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 14, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on March 10, 2014.

A. Overview of Information Collection

Title of Information Collection: Pre-Purchase Homeownership Counseling Demonstration and Impact Evaluation.

OMB Approval Number: 2528-0293.

Type of Request: Revision.

Form Number: None.

Description of the need for the information and proposed use: The U.S. Department of Housing and Urban Development (HUD) is conducting an important national study of the effectiveness of pre-purchase homeownership counseling services. This request covers several data collection activities: (a) Administering an interim survey to study participants; (b) recruiting study participants to participate in focus groups and conducting the focus groups to collect qualitative data; ¹ (c) collecting consent from co-borrowers of study participants; ² (d) continuing to collect loan origination and servicing data from lenders and service tracking data from counseling agencies; and (e) continuing to collect updated tracking information from study participants. The interim survey will be administered 12 months after participants complete the baseline survey. The interim survey will provide the first comparison of study participants' characteristics from the baseline survey. The information collected through the focus groups will be used to support the implementation analysis and to collect qualitative information about study participants' experiences with pre-purchase homeownership counseling services. The collection of consent from study participants' co-borrowers is necessary to allow the study to collect data related to the characteristics and performance of study participants' mortgage loans. As part of OMB approval # 2528-0293, the study collects data from participating counseling agencies on services that study participants receive. The study also collects study participants' loan origination and service tracking data from the study's three participating lenders for loans that do not have a co-borrower. Lastly, the study collects updated study participant contact information and other tracking data in order locate study participants for the interim survey and for future surveys. Maintaining contact with study participants over time is critical to minimizing attrition and ensuring high response rates to the follow-up surveys. We study seek to continue the collection of service tracking data, loan origination and servicing data, and tracking information past the # 2528-0293 expiration date.

¹ This activity has been modified from OMB Approval #2528-0293. The study requests to conduct focus groups with study participants instead of individual telephone interviews.

² This activity has been modified from OMB Approval #2528-0293. The study has revised the co-borrower consent form and requests approval for the revised form.

Respondents: i.e. affected public): Up to 6,000 study participants; approximately 1,800 co-borrowers; 64 counseling organizations; and, staff at 3 lenders. The average time per study participant (up to 6,000 study participants) to complete the interim survey is 35 minutes. A total of up to 144 study participants will participate in 12 focus groups of 8-12 participants each. Each focus group will take approximately 120 minutes. Prior to the focus groups, the study team will contact eligible study participants in three cities to request participation in a focus group and confirm eligibility information. The recruitment calls are estimated to take approximately 5 minutes per person. The study's enrollment projections suggest that the three largest study sites will include approximately 720 eligible study participants, although recruitment will end sooner if the available focus group slots are filled. The collection of co-borrower consent involves including the co-borrower consent form in the study's regular tracking letters, along with a request for the co-borrower to review, sign, and return the written consent form. For co-borrowers who do not return the written form, the study will also be able to collect consent verbally at the time of the interim survey and during phone calls with the co-borrower. The study estimates that approximately 1,800 study participants will have co-borrowers. The co-borrowers' review of the co-borrower consent information and completion of the consent process is estimated to require approximately 5 minutes per co-borrower. The average time per client for counseling agencies to document the services provided to study participants is 10 minutes, with responses required for both the educational component and for the counseling services. The average time for lenders to prepare study participants' loan origination and performance data for the study team is 60 minutes. The study team will ask for this data at 6 points during the next 3 years from each lender. The study mails study tracking letters 2-3 times per year. The average time for study participants' review of the letters and return of the tracking form is 5 minutes. The total burden for the study is 9,666 hours: 8,348 hours for study participants, 150 hours for co-borrowers, 1,150 hours for counseling agencies, and 18 hours for lenders.

Information collection | Number of respondents | Frequency of response | Responses per annum | Burden minutes per response | Total burden hours | Annual burden hours | Hourly cost per response | Annual cost
Interim Survey | 6,000 | 1 | 1 | 35 | 3,500 | 3,500 | $35 | $210,000
Focus group recruitment calls | 720 | 1 | 1 | 5 | 60 | 60 | 25 | 1,500
Focus groups | 144 | 1 | 1 | 120 | 288 | 288 | 25 | 7,200
Co-borrower consent form | 1,800 | 1 | 1 | 5 | 150 | 150 | 25 | 3,750
Loan origination and performance data: Lenders | 3 | 6 | 2 | 60 | 18 | 6 | 35 | 630
Service tracking information: Housing counseling agencies | 3,450 | 2 | 1 | 10 | 1,150 | 1,150 | 25 | 28,750
Tracking Letter | 6,000 | 9 | 3 | 5 | 4,500 | 1,500 | 5 | 270,000
Total | 18,117 | 21 | 10 |  | 9,666 | 6,654 |  | 521,830

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority: Section 3507 of the Paperwork Reduction Act of 1995, 44 U.S.C. Chapter 35.

Date: December 9, 2014
Colette Pollard,
Department Reports Management Officer, Office of the Chief Information Officer.

[FR Doc. 2014-29308 Filed 12-12-14; 8:45 am]

BILLING CODE 4210-67-P